DEPARTMENT OF JUSTICE

Antitrust Division

Notice Pursuant to the National Cooperative Research and Production Act of 1993—Undersea Technology Innovation Consortium

Notice is hereby given that, on January 17, 2025, pursuant to section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Wider Security LLC, Warren, RI; Comark LLC, Milford, MA; Poroy Global Advisors LLC, Hull, MA; Parry Labs LLC, Alexandria, VA; Goodrich Corporation, Engineered Polymer Products, Jacksonville, FL; Questek Innovations LLC, Evanston, IL; VideoRay LLC, Pottstown, PA; Defense Operations & Execution Solutions, Inc., W Melbourne, FL; Pliant Energy Systems, Inc., Brooklyn, NY; Ashwin-Ushas Corporation, Holmdel, NJ; Georgia Tech Applied Research, Corp., Atlanta, GA; and Morphix Technologies, Inc., Virginia Beach, VA, have been added as parties to this venture.

Also, Decisive Analytics Corp., Arlington, VA; Saltenna LLC, Mclean, VA; Production Systems Automation LLC, Duryea, PA; Probus Test Systems, Inc., Lincroft, NJ; Photonic Systems, Inc., Billerica, MA; UnderSea Sensor Systems, Inc., Columbia City, IN; Tridentis LLC, Alexandria, VA; SubSeaSail LLC, San Diego, CA; Bishop Ascendant, Inc., Caldwell, NJ; Beacon Industries, Inc., Newington, CT; PCCI, Inc., Alexandria, VA; Northern Defense Industries LLC, Stevensville, MD; Dive Technologies, Inc., Hingham, MA; Geodynamics LLC, Newport, NC; Embry-Riddle Aeronautical University, Daytona Beach, FL; Evans Capacitor Company, East Providence, RI; GK Mechanical Systems LLC, Brookfield, CT; Aegis Power Systems, Inc., Murphy, NC; The Ascendancy Group, Ltd., Virginia Beach, VA; Trident Systems LLC, Fairfax, VA; WR Systems, Ltd., Fairfax, VA; Submergence Group LLC, Cedar Park, TX; Major Tool and Machine, Inc., Indianapolis, IN; Intellisense Systems, Inc., Torrance, CA; HEBI Robotics, Inc., Pittsburgh, PA; and EpiSys Science, Inc., Poway, CA, have withdrawn as parties to this venture.

No other changes have been made in either the membership or planned activity of the group research project. Membership in this group research project remains open, and UTIC intends to file additional written notifications disclosing all changes in membership.

On October 9, 2018, UTIC filed its original notification pursuant to section 6(a) of the Act. The Department of Justice published a notice in the Federal Register pursuant to section 6(b) of the Act on November 2, 2018 (83 FR 55203).

The last notification was filed with the Department on October 10, 2024. A notice was published in the Federal Register pursuant to section 6(b) of the Act on January 24, 2025 (90 FR 8153).

Suzanne Morris,
Deputy Director Civil Enforcement Operations, Antitrust Division.

[FR Doc. 2025-04065 Filed 3-13-25; 8:45 am]

BILLING CODE P